DEPARTMENT OF LABOR

Employment and Training Administration

Investigations Regarding Certifications of Eligibility To Apply for Worker Adjustment Assistance and Alternative Trade Adjustment Assistance

Petitions have been filed with the Secretary of Labor under section 221(a) of the Trade Act of 1974 (“the Act”) and are identified in the appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 9, 2007.

Interested persons are invited to submit written comments regarding the subject matter of the investigations to the Director, Division of Trade Adjustment Assistance, at the address shown below, not later than July 9, 2007.

The petitions filed in this case are available for inspection at the Office of the Director, Division of Trade Adjustment Assistance, Employment and Training Administration, U.S. Department of Labor, Room C-5311, 200 Constitution Avenue, NW., Washington, DC 20210.

Signed at Washington, DC, this 19th day of June 2007.
Ralph DiBattista,
Director, Division of Trade Adjustment Assistance.

Appendix.—TAA Petitions Instituted Between 6/11/07 and 6/15/07
TA-W | Subject firm (petitioners) | Location | Date of institution | Date of petition
61655 | Westell Inc.(Comp) | Aurora, IL | 06/11/07 | 06/07/07
61656 | Glen Raven technical Fabrics(Comp) | Burnsville, NC | 06/11/07 | 06/08/07
61657 | Cardone Industries, Inc.(Wkrs) | Philadelphia, PA | 06/11/07 | 06/07/07
61658 | NSI International Inc.(State) | Farmingdale, NY | 06/11/07 | 06/06/07
61659 | Mentor Graphics(State) | Wilsonville, OR | 06/11/07 | 06/08/07
61660 | Multi-Fineline Electronix, Inc.(Wkrs) | Anaheim, CA | 06/11/07 | 06/06/07
61661 | Collins and Aikman, Plastics Division(AFL-CIO) | Athens, TN | 06/11/07 | 06/08/07
61662 | Metso Paper USA(IAMAW) | Appleton, WI | 06/12/07 | 06/06/07
61663 | Black & Decker(Comp) | McAllen, TX | 06/12/07 | 06/11/07
61664 | Quality Inspection and Consulting(Comp) | Linden, TN | 06/12/07 | 05/31/07
61665 | Collins & Aikman, Dura Convertible Systems(State) | Adrian, MI | 06/12/07 | 06/11/07
61666 | Furnlite Inc.(Comp) | Fallston, NC | 06/12/07 | 06/11/07
61667 | J.D Phillips Corporation(Comp) | Alpena, MI | 06/12/07 | 06/11/07
61668 | Camaco(State) | Marianna, AR | 06/12/07 | 06/11/07
61669 | Superior Mills, Inc.(Wkrs) | Hopkinsville, KY | 06/12/07 | 06/06/07
61670 | Ferry Cap and Set Screw Company Plant 1(Wkrs) | Cleveland, OH | 06/13/07 | 06/04/07
61671 | Faradyne Motors(Comp) | Newark, NY | 06/13/07 | 06/11/07
61672 | Atwood Mobile Products, Inc.(Comp) | Elkhart, IN | 06/13/07 | 06/08/07
61673 | Voltarc Technologies, Inc.(State) | Waterbury, CT | 06/13/07 | 06/12/07
61674 | EGS Sola/Hevi Duty(Comp) | Celina, TN | 06/13/07 | 06/11/07
61675 | American Kleaner Manufacturing Company(Comp) | Rancho Cucamonga, CA | 06/13/07 | 06/12/07
61676 | Lynch Systems(Wkrs) | Bainbridge, GA | 06/13/07 | 06/12/07
61677 | Needle Nacks Ltd(Comp) | Madison, NC | 06/13/07 | 06/12/07
61678 | C-Tech Industries(Comp) | Calumet, MI | 06/13/07 | 06/12/07
61679 | Hartmann-Conco Inc.(Comp) | Rock Hill, SC | 06/13/07 | 06/13/07
61680 | Deerfield Specialty Papers, Inc.(Comp) | Augusta, GA | 06/14/07 | 06/13/07
61681 | Shakespeare(Wkrs) | Hewberry, SC | 06/14/07 | 06/12/07
61682 | NC Furniture House, Inc.(Wkrs) | Jamestown, NC | 06/14/07 | 06/01/07
61683 | Stanford Furniture Corporation(Comp) | Claremont, NC | 06/14/07 | 06/11/07
61684 | Eaton Corportion(Comp) | Vinita, OK | 06/14/07 | 06/08/07
61685 | Ford Motor Company(Wkrs) | Brook Park, OH | 06/14/07 | 06/13/07
61686 | Cummins Filtration(Wkrs) | Waynesboro, GA | 06/15/07 | 06/14/07
61687 | GSI Group(Wkrs) | Vandalia, IL | 06/15/07 | 06/04/07
61688 | Saline Metal Systems, LLC(Comp) | Saline, MI | 06/15/07 | 06/14/07
61689 | Johnson Controls, Inc.(Comp) | Oberlin, OH | 06/15/07 | 06/14/07
61690 | Kentucky Derby Hosiery(Comp) | Hopkinsville, KY | 06/15/07 | 06/12/07
61691 | Toshiba America Consumer Products(AFL-CIO) | Lebanon, TN | 06/15/07 | 06/14/07
61692 | Sirenza Microdevices(State) | Broomfield, CO | 06/15/07 | 06/13/07
61693 | Parker Hannifin(Wkrs) | Booneville, MS | 06/15/07 | 06/13/07
61694 | Kone Elevator and Escalator(Wkrs) | Mckinney, TX | 06/15/07 | 06/11/07
61695 | Standard Forged Products(USW) | Johnstown, PA | 06/15/07 | 06/08/07
61696 | Medtronic Vascular(Wkrs) | Santa Rosa, CA | 06/15/07 | 06/14/07
61697 | Gildan Activewear Malone, Inc.(Comp) | Bombay, NY | 06/15/07 | 06/06/07
61698 | Dan River Inc.(Wkrs) | New York, NY | 06/15/07 | 06/14/07

[FR Doc. E7-12516 Filed 6-27-07; 8:45 am]

BILLING CODE 4510-FN-P